DEPARTMENT OF ENERGY

Federal Energy Regulatory Commission

Combined Notice of Filings #1

Take notice that the Commission received the following exempt wholesale generator filings:

Docket Numbers: EG23-93-000.

Applicants: Double Black Diamond Solar Power, LLC.

Description: Double Black Diamond Solar Power, LLC submits Notice of Self-Certification of Exempt Wholesale Generator Status.

Filed Date: 3/16/23.

Accession Number: 20230316-5087.

Comment Date: 5 p.m. ET 4/6/23.

Docket Numbers: EG23-94-000.

Applicants: Landrace Holdings, LLC.

Description: Landrace Holdings, LLC submits Notice of Self-Certification of Exempt Wholesale Generator Status.

Filed Date: 3/16/23.

Accession Number: 20230316-5130.

Comment Date: 5 p.m. ET 4/6/23.

Docket Numbers: EG23-95-000.

Applicants: PGR 2021 Lessee 18, LLC.

Description: PGR 2021 Lessee 18, LLC submits Notice of Self-Certification of Exempt Wholesale Generator Status.

Filed Date: 3/16/23.

Accession Number: 20230316-5134.

Comment Date: 5 p.m. ET 4/6/23.

Docket Numbers: EG23-96-000.

Applicants: Virginia Line Solar, LLC.

Description: Virginia Line Solar, LLC submits Notice of Self-Certification of Exempt Wholesale Generator Status.

Filed Date: 3/16/23.

Accession Number: 20230316-5142.

Comment Date: 5 p.m. ET 4/6/23.

Take notice that the Commission received the following electric rate filings:

Docket Numbers: ER15-1668-004.

Applicants: Phoenix Energy Group, LLC.

Description: Notice of Non-Material Change in Status of Phoenix Energy Group, LLC.

Filed Date: 3/15/23.

Accession Number: 20230315-5216.

Comment Date: 5 p.m. ET 4/5/23.

Docket Numbers: ER17-405-000; ER17-406-000.

Applicants: American Electric Power Service Corporation, PJM Interconnection, L.L.C., American Electric Power Service Corporation, PJM Interconnection, L.L.C.

Description: Formal Challenge of the Joint Consumer Group to the 2022 Annual Formula Rate Update of AEP East Operating Companies.

Filed Date: 3/8/23.

Accession Number: 20230308-5176.

Comment Date: 5 p.m. ET 4/7/23.

Docket Numbers: ER20-1298-004.

Applicants: Midcontinent Independent System Operator, Inc.

Description: Compliance filing: 2023-03-16_MISO TO's Order 864 Deficiency Response to be effective 1/27/2020.

Filed Date: 3/16/23.

Accession Number: 20230316-5107.

Comment Date: 5 p.m. ET 4/6/23.

Docket Numbers: ER22-1165-003.

Applicants: PJM Interconnection, L.L.C.

Description: Compliance filing: Order No. 676-J Compliance Revisions to Tariff, Section 4.2 to be effective 2/23/2023.

Filed Date: 3/16/23.

Accession Number: 20230316-5096.

Comment Date: 5 p.m. ET 4/6/23.

Docket Numbers: ER23-868-001.

Applicants: PEI Power LLC.

Description: Tariff Amendment: Supplement to Tariff Filing to be effective 1/19/2023.

Filed Date: 3/16/23.

Accession Number: 20230316-5069.

Comment Date: 5 p.m. ET 4/6/23.

Docket Numbers: ER23-1064-001.

Applicants: Upper Missouri G. & T. Electric Cooperative, Inc.

Description: Tariff Amendment: Amended Cert. of Concurrence—SPS Serv. Agreement to be effective 1/12/2023.

Filed Date: 3/16/23.

Accession Number: 20230316-5032.

Comment Date: 5 p.m. ET 4/6/23.

Docket Numbers: ER23-1398-000.

Applicants: PJM Interconnection, L.L.C.

Description: § 205(d) Rate Filing: Original ISA, Service Agreement No. 6824; Queue No. AE2-120 to be effective 2/14/2023.

Filed Date: 3/16/23.

Accession Number: 20230316-5002.

Comment Date: 5 p.m. ET 4/6/23.

Docket Numbers: ER23-1399-000.

Applicants: PJM Interconnection, L.L.C.

Description: § 205(d) Rate Filing: Correction to 2022 Annual Regional Transmission Expansion Plan Update Filing to be effective 1/1/2022.

Filed Date: 3/16/23.

Accession Number: 20230316-5010.

Comment Date: 5 p.m. ET 4/6/23.

Docket Numbers: ER23-1401-000.

Applicants: Niagara Mohawk Power Corporation, New York Independent System Operator, Inc.

Description: § 205(d) Rate Filing: Niagara Mohawk Power Corporation submits tariff filing per 35.13(a)(2)(iii: NYISO-National Grid Joint 205: SGIA Hawthorn Solar Project SA2756 to be effective 3/2/2023.

Filed Date: 3/16/23.

Accession Number: 20230316-5016.

Comment Date: 5 p.m. ET 4/6/23.

Docket Numbers: ER23-1402-000.

Applicants: Midcontinent Independent System Operator, Inc., Ameren Illinois Company.

Description: § 205(d) Rate Filing: Midcontinent Independent System Operator, Inc. submits tariff filing per 35.13(a)(2)(iii: 2023-03-16_SA 4014 Ameren IL-Flora Solar E&P (J1679) to be effective 3/17/2023.

Filed Date: 3/16/23.

Accession Number: 20230316-5031.

Comment Date: 5 p.m. ET 4/6/23.

Docket Numbers: ER23-1403-000.

Applicants: PJM Interconnection, L.L.C.

Description: § 205(d) Rate Filing: Amendment to ISA, SA No. 6274; Queue No. AE2-133 (amend) to be effective 5/16/2023.

Filed Date: 3/16/23.

Accession Number: 20230316-5048.

Comment Date: 5 p.m. ET 4/6/23.

Docket Numbers: ER23-1406-000.

Applicants: Nevada Power Company.

Description: § 205(d) Rate Filing: OATT Section 205 Amendments in Response to Order EL23-27 to be effective 12/1/2022.

Filed Date: 3/16/23.

Accession Number: 20230316-5094.

Comment Date: 5 p.m. ET 4/6/23.

Docket Numbers: ER23-1407-000.

Applicants: Transource Pennsylvania, LLC, PJM Interconnection, L.L.C.

Description: § 205(d) Rate Filing: Transource Pennsylvania, LLC submits tariff filing per 35.13(a)(2)(iii: Transource Pennsylvania, LLC Order No. 679 Application to be effective 5/16/2023.

Filed Date: 3/16/23.

Accession Number: 20230316-5124.

Comment Date: 5 p.m. ET 4/6/23.

Docket Numbers: ER23-1408-000.

Applicants: PJM Interconnection, L.L.C.

Description: § 205(d) Rate Filing: Revisions to Sch. 12-Appx A: February 2023 RTEP, 30-Day Comment Period Requested to be effective 6/14/2023.

Filed Date: 3/16/23.

Accession Number: 20230316-5140.

Comment Date: 5 p.m. ET 4/6/23.

Take notice that the Commission received the following electric reliability filings

Docket Numbers: RD23-4-000.

Applicants: North American Electric Reliability Corporation.

Description: North American Electric Reliability Corporation submits Petition for Approval of Proposed Reliability Standard PCR-002-4.

Filed Date: 3/10/23.

Accession Number: 20230310-5272.

Comment Date: 5 p.m. ET 4/10/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 16, 2023.
Debbie-Anne A. Reese,
Deputy Secretary.

[FR Doc. 2023-05905 Filed 3-22-23; 8:45 am]

BILLING CODE 6717-01-P